DEPARTMENT OF ENERGY

Federal Energy Regulatory Commission

[Docket No. CP01-70-005]

Columbia Gas Transmission Corporation; Notice of Compliance Filing

June 3, 2002.

Take notice that on May 20, 2002, Columbia Gas Transmission Corporation (Columbia) tendered for filing as part of its FERC Gas Tariff, Second Revised Volume No. 1, the following tariff sheets, with an effective date of December 1, 2001:

Substitute Third Revised Sheet No. 320

Substitute Second Revised Sheet No. 345

Columbia states that the filing is being made in compliance with the Commission's April 12, 2002 Order in the above referenced docket.

Columbia states that copies of its filing have been mailed to each of Columbia's firm and interruptible customers, affected state commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14415 Filed 6-7-02; 8:45 am]

BILLING CODE 6717-01-P